DEPARTMENT OF HOMELAND SECURITY

Federal Emergency Management Agency

[Docket ID FEMA-2023-0007]

Notice of Intent To Prepare an Environmental Impact Statement for Oregon; Extension of Comment Period

AGENCY: Federal Emergency Management Agency, DHS

ACTION: Notice of intent to prepare an Environmental Impact Statement; extension of comment period.

SUMMARY: The Federal Emergency Management Agency (FEMA) is extending the public comment period for its notice of intent to prepare an Environmental Impact Statement for Oregon, which published March 6, 2023. In this notice, FEMA announced its intent to prepare an Environmental Impact Statement (EIS) for the implementation of the plan for National Flood Insurance Program (NFIP)—Endangered Species Act (ESA) Integration in Oregon.

DATES: Written comments on the notice of intent published at 88 FR 13841 (March 6, 2023) must be received by FEMA on or before June 26, 2023. Comments already submitted do not need to be resubmitted. FEMA will hold at least two virtual public scoping meetings and at least two in-person public scoping meetings in Oregon at the times, dates, and locations listed on the project EIS website (see ADDRESSES section of this document). Reasonable accommodations are available for people with disabilities. To request a reasonable accommodation, contact the person listed in the FOR FURTHER INFORMATION CONTACT section below as soon as possible. Last minute requests will be accepted but may not be possible to fulfill.

ADDRESSES: The project EIS website with the draft plan and public meeting information is at https://www.fema.gov/about/organization/region-10/oregon/nfip-esa-integration. You may provide oral or written comments at either the in-person or virtual public scoping meetings. You may also provide written comments via the Federal eRulemaking Portal at https://www.regulations.gov. Search for FEMA-2023-0007 and follow the instructions for submitting comments.

All submissions must include the agency name and Docket ID for this notice. All comments received will be posted without change to http://www.regulations.gov and will include any personal information you provide. Therefore, submitting this information makes it public. You may wish to read the Privacy and Security notice, which can be viewed by clicking on the “Privacy and Security Notice” link on the homepage of www.regulations.gov. Commenters are encouraged to identify the number of the specific question or questions to which they are responding. For access to the docket and to read comments received by FEMA, go to https://www.regulations.gov and search for Docket ID FEMA-2023-0007.

FOR FURTHER INFORMATION CONTACT: Ms. Science Kilner, Regional Environmental Officer, FEMA Region 10, FEMA-R10-ESAcomments@fema.dhs.gov, 425-487-4713, or visit the EIS website (see ADDRESSES above).

SUPPLEMENTARY INFORMATION: On March 6, 2023, FEMA published a notice announcing its intent to prepare an Environmental Impact Statement (EIS) for the implementation of the plan for National Flood Insurance Program (NFIP)—Endangered Species Act (ESA) Integration in Oregon.¹ FEMA gave notice that the public scoping process had begun for the preparation of an EIS for the proposed action. The purpose of the scoping process is to solicit public comments regarding the range of issues, information, and analyses relevant to the proposed action, including potential environmental impacts and reasonable alternatives to address in the EIS. FEMA also notified the public of its intent to host in-person and virtual public scoping meetings to provide additional information to the public, and solicit comments on potential issues, concerns, and reasonable alternatives that FEMA should consider. FEMA is preparing this EIS in compliance with the National Environmental Policy Act (NEPA) of 1969 and the NEPA regulations implemented by the Council on Environmental Quality as of the date of this Notice.

¹ 88 FR 13841. Commenters may reference the Notice of Intent for a general description of the NFIP and the EIS process.

Public Scoping Process, Including Scoping Meetings

This NEPA scoping process is in addition to previous opportunities available to the public to understand and influence FEMA's draft Implementation Plan. The purpose of the EIS scoping process is to gather input on the issues, concerns, possible alternatives, and potential significant impacts to the quality of the human environment that FEMA should consider in the EIS. Participants are anticipated to include, and are not limited to, agencies (Federal, state, county, and local), Tribes, public interest groups, nongovernmental organizations, businesses, trade associations, and individual members of the public.

As described under the DATES section of this notice, FEMA is facilitating virtual and in-person meetings to accommodate and encourage public participation. At these meetings, the public will have the opportunity to present comments on the scope of the EIS. FEMA representatives will be available to answer questions and provide additional information to meeting attendees. In addition to providing comments at the public scoping meetings, stakeholders may submit written comments as described in the ADDRESSES section. Comments may be broad in nature or restricted to specific areas of concern, but they should be directly relevant to the NEPA process or potential environmental impacts as described in the Comments section below. Comments already submitted do not need to be resubmitted.

Comments

FEMA is seeking input on relevant information, studies, or analyses of any kind concerning impacts that result from the proposed action or alternatives. Specifically:

1. Potential effects (adverse or beneficial) that the proposed action could have on biological resources, including species and their habitat.

2. Potential effects that the proposed action could have on physical resources and natural floodplain functions.

3. Potential effects that the proposed action could have on socioeconomics, including demographics, employment, economics, minority, low-income populations, and Tribes, land use, zoning, housing, commerce, transportation, community growth, and community infrastructure.

4. Other possible reasonable alternatives to the proposed action that FEMA should consider, including additional or alternative avoidance, minimization, and mitigation measures that achieve the performance standard of no-net loss of three key natural floodplain functions.

FEMA regulation, at 40 CFR 1502.17, requires that FEMA append to the draft EIS or otherwise publish all comments received during the scoping process that identifies alternatives, information, and analysis for FEMA's consideration. FEMA respects each commentor's desire to withhold sensitive information (such as the costs associated with development in the floodplain) but, at the same time, recognizes that one set of impacts that may be associated with the implementation of the draft plan is the economic, social, and equity burden that individuals, businesses, and communities may face.

To promote informed decision-making, comments should be as specific as possible and should provide as much detail as necessary to meaningfully and fully inform FEMA of the commenter's position. Comments should explain why the issues raised are important to the consideration of potential environmental impacts and possible alternatives to the proposed action as well as to economic, employment, and other impacts affecting the quality of the human environment.

Authority: 42 U.S.C. 4321, et seq., and 40 CFR 1501.9.

Donna Defrancesco,
Assistant Administrator for Environmental Planning and Historic Preservation, Federal Emergency Management Agency.

[FR Doc. 2023-11192 Filed 5-24-23; 8:45 am]

BILLING CODE 9111-47-P